DEPARTMENT OF HOMELAND SECURITY

U.S. Customs and Border Protection

Accreditation of AmSpec LLC (New Haven, CT), as a Commercial Laboratory

AGENCY: U.S. Customs and Border Protection, Department of Homeland Security.

ACTION: Notice of accreditation of AmSpec LLC (New Haven, CT), as a commercial laboratory.

SUMMARY: Notice is hereby given, pursuant to CBP regulations, that AmSpec LLC (New Haven, CT), has been accredited to test petroleum and certain petroleum products for customs purposes as of November 8, 2018.

DATES: AmSpec LLC (New Haven, CT) was accredited, as a commercial laboratory as of November 8, 2018. The next triennial inspection date will be scheduled for August 2021.

FOR FURTHER INFORMATION CONTACT: Dr. Justin Shey, Laboratories and Scientific Services Directorate, U.S. Customs and Border Protection, 1300 Pennsylvania Avenue NW, Suite 1500N, Washington, DC 20229, tel. 202-344-1060.

SUPPLEMENTARY INFORMATION: Notice is hereby given pursuant to 19 CFR 151.12, that AmSpec LLC, 100 Wheeler St., Unit G, New Haven, CT 06512 has been accredited to test petroleum and certain petroleum products for customs purposes, in accordance with the provisions of 19 CFR 151.12.

AmSpec LLC (New Haven, CT) is accredited for the following laboratory analysis procedures and methods for petroleum and certain petroleum products set forth by the U.S. Customs and Border Protection Laboratory Methods (CBPL) and American Society for Testing and Materials (ASTM):

CBPL No. | ASTM | Title
27-14 | D2622 | Standard Test Method for Sulfur in Petroleum Products by Wavelength Dispersive X-Ray Fluorescence Spectrometry.
27-57 | D7039 | Standard Test Method for Sulfur in Gasoline and Diesel Fuel by Monochromatic Wavelength Dispersive X-Ray Fluorescence Spectrometry.

Anyone wishing to employ this entity to conduct laboratory analyses and gauger services should request and receive written assurances from the entity that it is accredited or approved by the U.S. Customs and Border Protection to conduct the specific test or gauger service requested. Alternatively, inquiries regarding the specific test or gauger service this entity is accredited or approved to perform may be directed to the U.S. Customs and Border Protection by calling (202) 344-1060. The inquiry may also be sent to CBPGaugersLabs@cbp.dhs.gov. Please reference the website listed below for a complete listing of CBP approved gaugers and accredited laboratories. http://www.cbp.gov/about/labs-scientific/commercial-gaugers-and-laboratories.

Dated: December 20, 2018.
Patricia Hawes Coleman,
Acting Executive Director, Laboratories and Scientific Services Directorate.

[FR Doc. 2019-00918 Filed 2-1-19; 8:45 am]

BILLING CODE 9111-14-P